DEPARTMENT OF THE INTERIOR

Bureau of Land Management

[14X.LLAZA03000.L17110000.DF0000.241A]

Notice of Intent To Prepare an Environmental Impact Statement for the Proposed Uinkaret Mountains Landscape Restoration Project, Arizona Strip, Mohave County, AZ

AGENCY: Bureau of Land Management, Interior.

ACTION: Notice of intent.

SUMMARY: In compliance with the National Environmental Policy Act of 1969, as amended (NEPA), and the Federal Land Policy and Management Act of 1976, as amended, the Bureau of Land Management (BLM) Grand Canyon-Parashant National Monument and Arizona Strip Field Office, St. George, Utah, intend to prepare an Environmental Impact Statement (EIS) for the Uinkaret Mountains Landscape Restoration Project and by this notice is announcing the beginning of the scoping process to solicit public comments and identify issues.

DATES: This notice initiates the public scoping process for the EIS. Comments on issues may be submitted in writing until November 20, 2014. Two public open-house meetings will be held—one in St. George, Utah, and one in Mesquite, Nevada. The dates and locations of these meetings will be announced at least 15 days in advance through local media, newspapers and the BLM Web sites at: http://www.blm.gov/az/st/en/fo/grand_canyon-parashant.html, and http://www.blm.gov/az/st/en/fo/arizona_strip_field.html. In order to be considered during preparation of the Draft EIS, all comments must be received prior to the close of the 30 day scoping period or 15 days after the last public meeting, whichever is later. The BLM will provide additional opportunities for public participation upon publication of the Draft EIS.

ADDRESSES: You may submit comments on issues related to the proposed Uinkaret Mountains Landscape Restoration Project by any of the following methods:

• Email: blm_az_uinkaret_eis@blm.gov.

• Fax: 435-688-3258.

• Mail: 345 East Riverside Drive, St. George, UT 84790.

• In person: At either open-house meeting.

Documents pertinent to this proposal may be examined at the Grand Canyon-Parashant National Monument and Arizona Strip Field offices.

FOR FURTHER INFORMATION CONTACT: Richard Spotts, Planning and Environmental Coordinator; telephone 435-688-3207; address 345 East Riverside Drive, St. George, UT 84790; email: blm_az_uinkaret_eis@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM is proposing to conduct the Uinkaret Mountains Landscape Restoration Project located on public lands administered by the Grand Canyon-Parashant National Monument and Arizona Strip Field Office in Mohave County, Arizona. The project area encompasses approximately 128,535 acres. Individual areas ranging from several acres to several thousand acres would be treated using a variety of methods including manual, mechanical, chemical, management of wildfires, use of prescribed fire, and seeding depending on the resource management goals and desired outcomes for the specific treatment area. Grand Canyon-Parashant National Monument and the Arizona Strip Field Office completed interdisciplinary land health evaluations of existing resource conditions throughout the project area. These evaluations identified areas where one or more of the Standards for Rangeland Health were not being met. The information from these land health evaluations will be used in development of the Uinkaret Mountains Landscape Restoration Project. The project will be conducted in conformance with the Grand Canyon-Parashant National Monument and Arizona Strip Field Office Resource Management Plans and Records of Decision approved January 29, 2008.

The purpose of the public scoping process is to determine relevant issues that will influence the scope of the environmental analysis, including alternatives, and guide the process for developing the EIS. At present, the BLM has identified the following preliminary issues:

• Excessive fuel loadings, including closed-canopy stands and ladder fuels, are contributing to the risk of large high-intensity wildfires, and posing a threat to resources including wildlife habitat, species diversity, wildland urban interface areas, and the ponderosa pine ecosystem in the Mt. Trumbull area which is identified as a biologic resource of scientific interest to be protected in the Monument proclamation.

• Past management practices, such as timber harvest, livestock grazing, and fire suppression have affected vegetation communities; this has altered species composition, structure and function in many portions of the project area including within designated wilderness.

• Pinyon and juniper species are encroaching or expanding into the sagebrush and ponderosa pine communities causing a decline in species diversity, hydrologic function, and a decrease in the quality of important wildlife habitat, as well as habitat fragmentation.

• Accelerated soil erosion in parts of the project area is decreasing nutrient cycling and soil productivity.

• Habitat conditions have declined in areas with sagebrush monoculture and continuous closed canopy stands, resulting in a lack of species diversity and accelerated soil erosion.

The BLM anticipates that potential direct and indirect impacts of the project will be mitigated to an acceptable level onsite. The BLM will consider and analyze potential regional mitigation actions through the NEPA process.

The BLM will use NEPA public participation requirements to assist the agency in satisfying the public involvement requirements under Section 106 of the National Historic Preservation Act (NHPA) (16 U.S.C. 470(f)) pursuant to 36 CFR 800.2(d)(3). The information about historic and cultural resources within the area potentially affected by the proposed Uinkaret Mountains Landscape Restoration Project will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Uinkaret Mountains Landscape Restoration Project are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Timothy J. Burke,
District Manager, Arizona Strip District.

[FR Doc. 2014-24986 Filed 10-20-14; 8:45 am]

BILLING CODE 4310-32-P